DEPARTMENT OF COMMERCE

National Oceanic and Atmospheric Administration

50 CFR Part 665

RIN 0648-AU22

Fisheries in the Western Pacific; Bottomfish and Seamount Groundfish Fisheries; Management Measures for the Main Hawaiian Islands

AGENCY: National Marine Fisheries Service (NMFS), National Oceanic and Atmospheric Administration (NOAA), Commerce.

ACTION: Notice of availability of fishery management plan amendment; request for comments.

SUMMARY: NMFS announces that the Western Pacific Fishery Management Council (Council) proposes to amend the Fishery Management Plan for the Bottomfish and Seamount Groundfish of the Western Pacific Region (Bottomfish FMP). Bottomfish FMP Amendment 14 was developed in response to a determination by NMFS that Hawaiian bottomfish stocks are experiencing overfishing, with the primary problem being excessive fishing mortality on seven deep water bottomfish species in the main Hawaiian Islands. Amendment 14 would end the overfishing by reducing bottomfish fishing mortality by 24 percent in 2008, and by establishing a management mechanism that would control fishing effort by responding to changes in the status of bottomfish stocks in the future.

DATES: Comments on Amendment 14, which includes a final environmental impact statement, must be received by February 25, 2008.

ADDRESSES: Comments on Amendment 14, identified by 0648-AU22, may be sent to either of the following addresses:

• Electronic Submission: Submit all electronic public comments via the Federal e-Rulemaking Portal www.regulations.gov; or

• Mail: William L. Robinson, Regional Administrator, NMFS, Pacific Islands Region (PIR), 1601 Kapiolani Blvd, Suite 1110, Honolulu, HI 96814-4700.

Instructions: All comments received are a part of the public record and will generally be posted to www.regulations.gov without change. All Personal Identifying Information (e.g., name, address, etc.) submitted voluntarily by the commenter may be publicly accessible. Do not submit Confidential Business Information, or otherwise sensitive or protected information. NMFS will accept anonymous comments. Attachments to electronic comments will be accepted in Microsoft Word or Excel, WordPerfect, or Adobe PDF file formats only.

Copies of Amendment 14, including a final environmental impact statement, are available from the Council, 1164 Bishop St., Suite 1400, Honolulu, HI 96813, tel 808-522-8220, fax 808-522-8226.

FOR FURTHER INFORMATION CONTACT: Karla Gore, NMFS PIR, 808-944-2273.

SUPPLEMENTARY INFORMATION:

Electronic Access

This Federal Register notice is also accessible at the Office of the Federal Register's web site www.gpoaccess.gov/fr.

Background

NMFS determined that overfishing is occurring on the bottomfish species complex in the Hawaiian Archipelago, with the primary problem being excessive fishing mortality on seven deep water species (the “Deep 7” species) in the main Hawaiian Islands (MHI). The Deep 7 species are onaga (Etelis coruscans), ehu (E. carbunculus), gindai (Pristipomoides zonatus), kalekale (P. sieboldii), opakapaka (P. filamentosus), lehi (Aphareus rutilans), and hapu'upu'u (Epinephelus quernus). NMFS notified the Council of this overfishing determination on May 27, 2005 (70 FR 34452, June 14, 2005). In response, the Council prepared Bottomfish FMP Amendment 14 that would establish measures to end the overfishing.

Amendment 14 would establish the following management measures for vessel-based bottomfish fishing in the Main Hawaiian Islands:

1. New Federal permitting and reporting requirements for non-commercial bottomfish fishermen. Permits would be required for all individuals engaged in vessel-based non-commercial bottomfish fishing in Hawaii, and operators of these non-commercial vessels would be required to submit logbooks of fishing effort and catch;

2. Seasonal closure. The bottomfish fishery in the main Hawaiian Islands would be closed in the summer of 2008. This closure is intended to reduce fishing mortality on Deep 7 bottomfish by commercial and non-commercial fishermen;

3. Total allowable catch (TAC). A mechanism would be established to set an annual TAC. In 2008, a TAC of 178,000 lb would apply only to the commercial fishery. In subsequent years an annual TAC, determined by NMFS and the Council, would apply to both commercial and non-commercial fisheries; and

4. Bag limits for non-commercial fishermen of five fish, all species combined, of the Deep 7 species, per person per trip. The Federal bag limit would be repealed in the future when data on the non-commercial fishery are sufficient to allow the non-commercial fishery to be included in the TAC program.

The measures in Amendment 14 would reduce fishing mortality bottomfish by 24 percent in 2008, and respond to changes in the status of bottomfish stocks by adjusting the allowable fishing mortality in the future. Amendment 14 has the following objectives:

1. End overfishing of the bottomfish stocks in the Hawaiian Archipelago;

2. Reduce the fishing mortality for the deepwater bottomfish species complex in the MHI;

3. Establish a mechanism to respond to changes in stock status beyond 2008; and

4. Improve data collection from non-commercial bottomfish fisheries in Federal waters around the MHI.

Amendment 14 includes a final environmental impact statement that analyzes the management alternatives considered by the Council. A notice of availability for the FEIS will be published in the near future. A proposed rule to implement Amendment 14 has been prepared, and NMFS expects to publish and request public comment on the rule in the near future.

Public comments on Amendment 14 must be received by February 25, 2008 to be considered by NMFS in the decision to approve, partially approve, or disapprove the amendment. To be considered, comments must be received by close of business on the last day of the comment period; that does not mean postmarked or otherwise transmitted by that date.

Authority: 16 U.S.C. 1801 et seq.

Dated: December 20, 2007.
Galen R. Tromble,
Acting Director, Office of Sustainable Fisheries, National Marine Fisheries Service.

[FR Doc. E7-25078 Filed 12-26-07; 8:45 am]

BILLING CODE 3510-22-S